Proclamation 9028 of September 30, 2013

National Breast Cancer Awareness Month, 2013

By the President of the United States of America

A Proclamation

Every October, America stands in solidarity with those battling breast cancer and those at risk for breast cancer. This disease touches every corner of the United States—in 2013 alone, more than 230,000 women and over 2,000 men will be diagnosed with breast cancer, and tens of thousands will die from it. As we observe National Breast Cancer Awareness Month, we salute the women and men who dedicate themselves to prevention, detection, and treatment; we show our support for every individual and every family struggling with breast cancer; and we pause to remember those we have lost.

Over the past two decades, our Nation has made strides in the fight against breast cancer. While we still do not know the exact causes, we do know that some women are at an increased risk of developing this disease, including those who have a personal or family history, who are older, or who are overweight or obese after menopause. Because early detection can decrease the risk of death from breast cancer, I encourage women to speak with their doctors about recommended mammograms and clinical breast exams. Whether you are looking for information about breast cancer prevention, treatment of metastatic breast cancer, or information about the latest research, all Americans can learn more by visiting www.Cancer.gov.

Last year, my Administration invested over half a billion dollars in breast cancer research. We proudly support studies aimed at discovering better screening methods, developing more effective treatments, and improving our understanding of this disease.

And because everyone should have access to preventive services, the Affordable Care Act requires most health insurance plans to fully cover recommended breast cancer screenings. This law also prohibits insurers from setting lifetime dollar limits on coverage, or from dropping coverage because of errors on paperwork. Beginning in 2014, companies will no longer be able to put dollar limits on annual benefits or deny insurance because of pre-existing conditions, including breast cancer. And starting October 1, Americans can visit www.HealthCare.gov to shop for affordable coverage in the new Health Insurance Marketplace.

This month, we reaffirm our commitment to reduce the burden of breast cancer. We join hands with our mothers, daughters, sisters, and friends. We renew our support for increased access to screenings and care, and we advance the innovative research that will usher in a new era in the fight against breast cancer.

NOW, THEREFORE, I, BARACK OBAMA, President of the United States of America, by virtue of the authority vested in me by the Constitution and the laws of the United States, do hereby proclaim October 2013 as National Breast Cancer Awareness Month. I encourage citizens, government agencies, private businesses, nonprofit organizations, and all other interested groups to join in activities that will increase awareness of what Americans can do to prevent breast cancer.

IN WITNESS WHEREOF, I have hereunto set my hand this thirtieth day of September, in the year of our Lord two thousand thirteen, and of the Independence of the United States of America the two hundred and thirty-eighth.

[FR Doc. 2013-24382

Filed 10-3-13; 8:45 am]

Billing code 3295-F4